DEPARTMENT OF TRANSPORTATION

Federal Aviation Administration

Public Notice for Waiver of Aeronautical Land-Use Assurance; Gerald R. Ford International Airport; Grand Rapids, MI

AGENCY: Federal Aviation Administration, DOT.

ACTION: Notice of intent of waiver with respect to land.

SUMMARY: The Federal Aviation Administration (FAA) is considering a proposal to change a portion of the airport from aeronautical use to non-aeronautical use. The proposal consists of one parcel of land, totaling approximately 6.2 acres. Current use and present condition is vacant grassland. There are no impacts to the airport by allowing the airport to dispose of the property. The land was acquired utilizing federal funds under Grant 9-20-072-6001, dated April 13, 1961. Approval does not constitute a commitment by the FAA to financially assist in the lease of the subject airport property nor a determination that all measures covered by the program are eligible for Airport Improvement program funding from the FAA. The disposition of proceeds from the lease of the airport property will be in accordance with the FAA Policy and Procedures Concerning the Use of Airport Revenue, published in the Federal Register on February 16, 1999. This proposal is for approximately 6.2 acres in total.

In accordance with section 47107(h) of Title 49, United States Code, this notice is required to be published in the Federal Register 30 days before modifying the land-use assurance that requires the property to be used for an aeronautical purpose. The proposed land will be leased to allow for a new public military air museum and technical aviation education facility. The proposed land is South of John J. Oostema Blvd. and East of Patterson Avenue. The proposed buildings will not exceed 45 feet above ground level at the site. The proposed buildings will be required to meet FAA airspace requirements prior to construction. Currently, this location and use does not appear to impact current FAA safety requirements or future airport development. The proceeds from the leases of land will be used for airport improvements and operation expenses at Gerald R. Ford International Airport.

DATES: Comments must be received on or before August 27, 2001.

FOR FURTHER INFORMATION CONTACT: Mr. Gary Migut, Federal Aviation Administration, Great Lakes Region, Detroit Airports District Office, DET ADO-650.2, Willow Run Airport, East, 8820 Beck Road, Belleville, Michigan 48111, (734) 487-7278.

Documents reflecting this FAA action may be reviewed at this same location or at Gerald R. Ford International Airport, Grand Rapids, Michigan.

SUPPLEMENTARY INFORMATION: Following is the legal description of the property:

All that part of the NW¼ of Section 30, Township 6 North, Range 10 West, Cascade Township, Kent County, Michigan, described as: Commencing at the north one-quarter corner of said Section 30, thence North 88°37′ East 35.12 feet along the north line of Section 30, thence South 8°47′ East 561.95 feet, thence South 81°13′ West 559.50 feet, thence North 8°47′ West 15.18 feet to the place of beginning of this description; thence South 81°13′ West 750.00 feet, thence North 8°47′ West 360.00 feet, thence North 81°13′ East 750.00 feet, thence South 8°47′ East 360.00 feet to the place of beginning. Containing 6.2 acres, more or less.

Issued in Belleville, Michigan, May 18, 2001.
Irene R. Porter,
Manager, Detroit Airports District Office, Great Lakes Region.

[FR Doc. 01-18240 Filed 7-26-01; 8:45 am]

BILLING CODE 4910-13-M